DEPARTMENT OF LABOR

Occupational Safety and Health Administration

[Docket No. NRTL-2-98]

NSF International, Expansion of Recognition

AGENCY: Occupational Safety and Health Administration (OSHA), Labor.

ACTION: Notice.

SUMMARY: This notice announces the Agency's final decision on the application of NSF International (NSF) for expansion of its recognition as a Nationally Recognized Testing Laboratory (NRTL) under 29 CFR 1910.7.

EFFECTIVE DATE: This recognition becomes effective on June 28, 2000 and, unless modified in accordance with 29 CFR 1910.7, continues in effect while NSF remains recognized by OSHA as an NRTL.

FOR FURTHER INFORMATION CONTACT: Bernard Pasquet, Office of Technical Programs and Coordination Activities, NRTL Program, Occupational Safety and Health Administration, U.S. Department of Labor, 200 Constitution Avenue, NW, Room N3653, Washington, D.C. 20210, or phone (202) 693-2110.

SUPPLEMENTARY INFORMATION:

Notice of Final Decision

The Occupational Safety and Health Administration (OSHA) hereby gives notice of the expansion of recognition of NSF International (NSF) as a Nationally Recognized Testing Laboratory (NRTL). NSF's expansion request covers the use of additional test standards.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL. OSHA processes applications related to an NRTL's recognition following requirements in Appendix A to 29 CFR 1910.7. This appendix requires that the Agency publish this public notice of its final decision on an application.

NSF submitted a request, dated December 17, 1998 (see Exhibit 6A), to expand its recognition as an NRTL for 6 additional test standards. NSF also submitted a similar request, dated March 1, 1999 (see Exhibit 6B), for 4 other test standards. The NRTL Program staff determined that two of the standards listed in the December 17 request were not “appropriate test standards,” within the meaning of 29 CFR 1910.7(c). The staff makes such determinations in processing expansion requests from any NRTL. Therefore, OSHA approved 8 test standards for the expansion. The staff temporarily withheld its consideration of NSF's requests pending notification by the NRTL of the certification of its first products under the NRTL Program. The Agency imposed a condition requiring such a notification when it recognized NSF. However, NSF informed OSHA that it had not yet had an opportunity to perform such a certification. OSHA decided to grant NSF's requests, but continues to impose the condition for notification as restated in this notice.

OSHA published the required notice in the Federal Register (65 FR 11344, 03/02/2000) to announce the NSF expansion request. The notice included a preliminary finding that NSF could meet the requirements for expansion of its recognition, subject to the condition mentioned above, and OSHA invited public comment on the application by May 1, 2000. OSHA received no comments concerning this application.

In processing these requests, OSHA did not perform an on-site review of NSF's NRTL testing facilities. However, NRTL Program assessment staff reviewed information pertinent to the request and, in a memo dated October 21, 1999 (see Exhibit 7), recommended the expansion of NSF's recognition to include the additional test standards.

The most recent notices published by OSHA for the NSF recognition covered its initial recognition, which OSHA announced on August 8, 1998 (63 FR 46082) and granted on December 10, 1998 (63 FR 68309).

You may obtain or review copies of all public documents pertaining to the application by contacting the Docket Office, Occupational Safety and Health Administration, U.S. Department of Labor, 200 Constitution Avenue, NW, Room N2625, Washington, D.C. 20210, telephone: (202) 693-2350. You should refer to Docket No. NRTL-2-98, the permanent records of public information on the NSF recognition.

The current address of the NSF facility (site) recognized by OSHA is: NSF International, 789 Dixboro, Ann Arbor, Michigan 48105.

Condition

As previously mentioned, OSHA included a condition in the Federal Register notice for the recognition of NSF, published on December 10, 1998 (63 FR 68309). The condition requires NSF to contact the NRTL Program after NSF has certified its first products under the program. The condition continues to apply as part of this expansion. We have included it below.

The condition applies solely to the NSF operations as an NRTL and solely to those products that it certifies for purposes of enabling employers to meet OSHA product approval requirements. The condition is in addition to the other conditions listed below, which OSHA normally imposes in its recognition of an organization as an NRTL. The NRTL Program staff includes these types of additional conditions on OSHA's informational web page for the NRTL. When the staff determines that a particular condition has been satisfied, not only for NSF but for any NRTL, they will remove the condition from the web page and notify the NRTL accordingly. OSHA has no requirement to publish a public notice to remove conditions it imposes as part of its NRTL recognition activities.

Final Decision and Order

The NRTL Program staff has examined the application and other pertinent information. Based upon this examination and the assessor's recommendation, OSHA finds that NSF International has met the requirements of 29 CFR 1910.7 for expansion of its recognition to include the additional test standards, listed below, subject to the limitations and conditions listed below. Pursuant to the authority in 29 CFR 1910.7, OSHA hereby expands the recognition of NSF, subject to these limitations and conditions.

Limitations

OSHA hereby expands the recognition of NSF for testing and certification of products to demonstrate conformance to the 8 additional test standards listed below. OSHA has determined that each test standard meets the requirements for an appropriate test standard, within the meaning of 29 CFR 1910.7(c).

The Agency's recognition of NSF, or any NRTL, for a particular test standard is always limited to equipment or materials (products) for which OSHA standards require third party testing and certification before use in the workplace. As a result, OSHA's recognition of an NRTL for a test standard excludes any product(s), falling within the scope of the test standard, for which OSHA has no such requirements.

UL 94 Tests for Flammability of Plastic Materials for Parts in Devices and Appliances

UL 621 Ice Cream Makers

UL 651 Schedule 40 and 80 PVC Conduit

UL 651A Type EB and A Rigid PVC Conduit and HDPE Conduit

UL 749 Household [Electric] Dishwashers

UL 763 Motor-Operated Commercial Food Preparing Machines

UL 1081 Swimming Pool Pumps, Filters, and Chlorinators

UL 1821 Thermoplastic Sprinkler Pipe and Fittings for Fire Protection

Some standards listed above are approved as American National Standards by the American National Standards Institute (ANSI). However, for convenience, the above list shows the designation of the standard developing organization (e.g., UL 22) for the standard, as opposed to the ANSI designation (e.g., ANSI/UL 22). Under our procedures, an NRTL that is approved for a particular test standard may use either the latest proprietary version of the test standard or the latest ANSI version of that standard, regardless of whether it is currently recognized for the proprietary or ANSI version. Contact ANSI or the ANSI web site to find out whether or not a standard is currently ANSI approved.

None of the above standards had been withdrawn by the standards developing organization (SDO) at the time of the preparation of the notice of preliminary finding.

Conditions

NSF International must also abide by the following conditions of the recognition, in addition to those already required by 29 CFR 1910.7:

Within 30 days of certifying its first products under the NRTL Program, NSF will notify the OSHA NRTL Program Director so that OSHA may review NSF's implementation of procedures for testing and follow-up inspections of products covered within the scope of the above-listed test standards.

OSHA must be allowed access to the NSF facilities and records for purposes of ascertaining continuing compliance with the terms of its recognition and to investigate as OSHA deems necessary;

If NSF has reason to doubt the efficacy of any test standard it is using under this program, it must promptly inform the organization that developed the test standard of this fact and provide that organization with appropriate relevant information upon which its concerns are based;

NSF must not engage in or permit others to engage in any misrepresentation of the scope or conditions of its recognition. As part of this condition, NSF agrees that it will allow no representation that it is either a recognized or an accredited Nationally Recognized Testing Laboratory (NRTL) without clearly indicating the specific equipment or material to which this recognition is tied, or that its recognition is limited to certain products;

NSF must inform OSHA as soon as possible, in writing, of any change of ownership, facilities, or key personnel, and of any major changes in its operations as an NRTL, including details;

NSF will continue to meet all the terms of its recognition and will always comply with all OSHA policies pertaining to this recognition;

NSF will continue to meet the requirements for recognition in all areas where it has been recognized; and

NSF will always cooperate with OSHA to assure compliance with the spirit as well as the letter of its recognition and 29 CFR 1910.7.

Signed at Washington, D.C. this 20th day of June, 2000.
Charles N. Jeffress,
Assistant Secretary.

[FR Doc. 00-16319 Filed 6-27-00; 8:45 am]

BILLING CODE 4510-26-P